DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

City of Seattle, Washington

[Waiver Petition Docket Number FRA-2010-0097]

The City of Seattle, Washington (City), and the BNSF Railway Company (BNSF) jointly seek a temporary waiver of compliance from certain provisions of the Use of Locomotive Horns at Highway-Rail Grade Crossings, 49 CFR part 222. The City intends to establish a Pre-Rule Quiet Zone that it had previously continued under the provisions of 49 CFR 222.41(c)(1). The City is seeking a waiver for the requirement to construct and complete a Pre-Rule Quiet Zone by June 24, 2010, as required by 49 CFR 222.41(c)(2), and for an extension of such date to September 24, 2010.

The City states that it has engaged in numerous meetings with BNSF to negotiate a Construction and Maintenance Agreement (CMA) for the necessary improvements to establish a Pre-Rule Quiet Zone. There are 4 crossings in the existing Pre-Rule Quiet Zone. Three of these crossings will be treated with Supplementary Safety Measures (SSM) and Alternative Safety Measures (ASM) as follows: 2 crossings with four-quadrant gates (SSM), and 1 crossing with three-quadrant gates and a median on the approach that has only one gate (ASM). The 4th crossing will be upgraded from a pedestrian-only crossing to a crossing for both vehicles and pedestrians which will be equipped with standard flashing lights and gates.

The City and BNSF finalized the CMA on June 29, 2009. Since that date, the City has funded almost $1 million in improvements, specifically to improve crossings in the Pre-Rule Quiet Zone. However, the City and BNSF have concluded that all of the planned improvements will not be completed by June 24, 2010. The City requests that the existing Pre-Rule Quiet Zone be allowed to continue until September 24, 2010, by which time all of the improvements will have been completed.

The City states that construction so far has focused on the installation of the vehicle detection system and upgraded signal electronics. Rail has also been removed from a non-operating streetcar system as part of the project. Since the construction of the improvements has been made in good faith by both parties and is nearing completion, both the City and BNSF are requesting that the June 24, 2010, deadline be extended so that the Pre-Rule Quiet Zone can remain consistently active.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0097) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 15 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on June 10, 2010.
Robert C. Lauby,
Deputy Associate Administrator for Regulatory and Legislative Operations.

[FR Doc. 2010-14470 Filed 6-15-10; 8:45 am]

BILLING CODE 4910-06-P